INTERNATIONAL TRADE COMMISSION

[Investigation No. 731-TA-1125 (Third Review)]

Electrolytic Manganese Dioxide From China; Determination

On the basis of the record ¹ developed in the subject five-year review, the United States International Trade Commission (“Commission”) determines, pursuant to the Tariff Act of 1930 (“the Act”), that revocation of the antidumping duty order on electrolytic manganese dioxide from China would be likely to lead to continuation or recurrence of material injury to an industry in the United States within a reasonably foreseeable time.

¹ The record is defined in § 207.2(f) of the Commission's Rules of Practice and Procedure (19 CFR 207.2(f)).

Background

The Commission instituted this review on June 2, 2025 (90 FR 23367), and determined on September 5, 2025, that it would conduct an expedited review (90 FR 48056, October 3, 2025).²

² Due to the lapse in appropriations and ensuing cessation of Commission operations, the Commission tolled its schedule for this proceeding. The schedule was revised in a subsequent notice published in the Federal Register on December 11, 2025 (90 FR 57485).

The Commission made this determination pursuant to section 751(c) of the Act (19 U.S.C. 1675(c)). It completed and filed its determination in this review on February 18, 2026. The views of the Commission are contained in USITC Publication 5703 (February 2026), entitled Electrolytic Manganese Dioxide from China: Investigation No. 731-TA-1125 (Third Review).

By order of the Commission.
Issued: February 19, 2026.
Lisa Barton,
Secretary to the Commission.

[FR Doc. 2026-03498 Filed 2-20-26; 8:45 am]

BILLING CODE 7020-02-P